INTERNATIONAL TRADE COMMISSION

[USITC SE-05-031]

Government in the Sunshine Act Meeting Notice

Agency Holding the Meeting: International Trade Commission.

Time and Date: October 11, 2005 at 2 p.m.

Place: Room 101, 500 E Street SW., Washington, DC 20436, Telephone: (202) 205-2000.

Status: Open to the public.

Matters to be Considered:

1. Agenda for future meetings: none.

2. Minutes.

3. Ratification List.

4. Inv. No. TA-421-6 (Remedy) (Circular Welded Non-Alloy Steel Pipe from China)—briefing and vote. (The Commission is currently scheduled to transmit Commissioners' recommendations on remedy to the President and the United States Trade Representative on or before October 21, 2005.).

5. Outstanding action jackets: None.

In accordance with Commission policy, subject matter listed above, not disposed of at the scheduled meeting, may be carried over to the agenda of the following meeting.

By order of the Commission.
Dated: October 4, 2005.
Marilyn R. Abbott,
Secretary to the Commission.

[FR Doc. 05-20336 Filed 10-5-05; 12:12 pm]

BILLING CODE 7020-02-P